DEPARTMENT OF HEALTH AND HUMAN SERVICES

National Institutes of Health

National Cancer Institute; Amended Notice of Meeting

Notice is hereby given of a change in the meeting of the National Cancer Institute Special Emphasis Panel, February 16, 2017, 08:00 a.m. to February 17, 2017, 05:00 p.m., Bethesda North Marriott Conference Hotel, 5701 Marinelli Road, Bethesda, MD 20852 which was published in the Federal Register on December 13, 2016, 81 FR 89953.

The meeting notice is amended to change the date of the meeting to February 16, 2017 from 8:00 a.m. to 5:00 p.m. The meeting is closed to the public.

Dated: December 27, 2016.
David Clary,
Program Analyst, Office of Federal Advisory Committee Policy.

[FR Doc. 2016-31759 Filed 12-30-16; 8:45 am]

BILLING CODE 4140-01-P